SMALL BUSINESS ADMINISTRATION

Suspension of Applications for the Small Disadvantaged Business Program

Correction

In notice document E8-22388 appearing on page 54881 in the issue of Tuesday, September 23, 2008, make the following correction:

In the first column, the subject line should read as set forth above.

[FR Doc. Z8-22388 Filed 9-26-08; 8:45 am]

BILLING CODE 1505-01-D